DEPARTMENT OF THE INTERIOR

National Park Service

[N6958; NPS-WASO-NAGPRA-NPS0042093; PPWOCRADN0-PCU00RP14.R50000]

Notice of Inventory Completion: California State University, Long Beach, Long Beach, CA

AGENCY: National Park Service, Interior.

ACTION: Notice.

SUMMARY: In accordance with the Native American Graves Protection and Repatriation Act (NAGPRA), California State University, Long Beach has completed an inventory of human remains and associated funerary objects and has determined that there is a cultural affiliation between the human remains and associated funerary objects and Indian Tribes or Native Hawaiian organizations in this notice.

DATES: Repatriation of the human remains and associated funerary objects in this notice may occur on or after April 1, 2026.

ADDRESSES: Send written requests for repatriation of the human remains and associated funerary objects in this notice to Miztlayolxochitl Aguilera, California State University Long Beach, 1250 Bellflower Blvd., Long Beach, CA 90840, email Miztla.Aguilera@csulb.edu.

SUPPLEMENTARY INFORMATION: This notice is published as part of the National Park Service's administrative responsibilities under NAGPRA. The determinations in this notice are the sole responsibility of California State University, Long Beach and additional information on the determinations in this notice, including the results of consultation, can be found in its inventory or related records. The National Park Service is not responsible for the determinations in this notice.

Abstract of Information Available

Human remains representing, at least, four individuals have been identified. The three associated funerary objects are two Steatite fragments and one lot of shell. In the late 1960's Mr. William Wallace took his CSULB archaeology field class to the construction site of Lake Los Angeles to perform salvage archaeology. The site is identified as LAN-192, in Los Angeles County, California. By April 3, 2023, 4 individuals associated with the site were identified in California State University, Long Beach's collections. Two had catalog numbers matching in-house inventory and the other two matched by taphonomy. Internal catalogs record the three associated funerary objects. This collection is referred to in previous reports as the “Palmdale” collection.

CSULB is unaware of the presence of any potentially hazardous substances used to treat any of the human remains or associated funerary objects.

Cultural Affiliation

Based on the information available and the results of consultation, cultural affiliation is reasonably identified by the geographical location of the human remains and associated funerary objects described in this notice.

Determinations

California State University, Long Beach has determined that:

• The human remains described in this notice represent the physical remains of four individuals of Native American ancestry.

• The three objects described in this notice are reasonably believed to have been placed intentionally with or near individual human remains at the time of death or later as part of the death rite or ceremony.

• There is a connection between the human remains and associated funerary objects described in this notice and the Yuhaaviatam of San Manuel Nation (previously listed as San Manuel Band of Mission Indians, California).

Requests for Repatriation

Written requests for repatriation of human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after April 1, 2026. If competing requests for repatriation are received, California State University, Long Beach must determine the most appropriate requestor prior to repatriation. Requests for joint repatriation of the human remains and associated funerary objects are considered a single request and not competing requests. California State University, Long Beach is responsible for sending a copy of this notice to the Indian Tribes and Native Hawaiian organizations identified in this notice and any other consulting parties.

Authority: Native American Graves Protection and Repatriation Act, 25 U.S.C. 3003, and the implementing regulations, 43 CFR 10.10.

Dated: February 20, 2026.
Melanie O'Brien,
Manager, National NAGPRA Program.

[FR Doc. 2026-04044 Filed 2-27-26; 8:45 am]

BILLING CODE 4312-52-P